DEPARTMENT OF HEALTH AND HUMAN SERVICES

National Institutes of Health

National Institute of Diabetes and Digestive and Kidney Diseases; Amended Notice of Meeting

Notice is hereby given of a change in the meeting of the National Institute of Diabetes and Digestive and Kidney Diseases Special Emphasis Panel, March 23, 2022, 09:00 a.m. to March 24, 2022, 04:00 p.m., National Institutes of Health, Rockledge II, 6701 Rockledge Drive, Bethesda, MD, 20892 which was published in the Federal Register on February 25, 2022, 308582.

Dr. Kozel wants to change the date for his meeting. The meeting is closed to the public.

Dated: March 16, 2022.
Miguelina Perez,
Program Analyst, Office of Federal Advisory Committee Policy.

[FR Doc. 2022-05966 Filed 3-21-22; 8:45 am]

BILLING CODE 4140-01-P